DEPARTMENT OF THE INTERIOR

Bureau of Land Management

[NV-060-3809]

Notice of Availability for the Record of Decision and Plan of Operations Approval for the South Pipeline Project; Expansion of Existing Gold Mining/Processing Operations; Lander County, NV

AGENCY: Bureau of Land Management, DOI.

COOPERATING AGENCIES: Nevada Division of Wildlife, US Army Corps of Engineers.

ACTION: Notice of Availability of the Record of Decision and Plan of Operations Approval for the South Pipeline Project, Lander County, Nevada.

SUMMARY: Pursuant to Section 102(2)(c) of the National Environmental Policy Act of 1969 and 40 Code of Federal Regulations 1500-1508 Council on Environmental Quality Regulations, the Bureaus of Land Management (BLM) has issued a Record of Decision for the South Pipeline Final Environmental Impact Statement (EIS) and Plan of Operations Approval for the Cortez Gold Mines' South Pipeline Project.

EFFECTIVE DATE: Appeals of the decision must be post-marked or otherwise delivered by 4:30 p.m. July 27, 2000.

ADDRESSES: Copies of the Record of Decision are available at the BLM, Battle Mountain Field Office, 50 Bastian Road, Battle Mountain, NV 89820.

FOR FURTHER INFORMATION CONTACT: Gary Foulkes, Project Manager, Battle Mountain BLM at (775) 635-4060.

SUPPLEMENTARY INFORMATION: Cortez Gold Mines, Inc. (CGM) has been approved to extend gold mining operations at the Pipeline Mine within the Gold Acres Mining District in Lander County, approximately 30 miles southeast of Battle Mountain, Nevada. The South Pipeline Project (Project) (as approved) includes an expansion of the existing open pit and waste rock disposal sites, and the development of heap leach and ancillary facilities. The Project will require additional surface disturbance of 4,450 acres, all of which is public land administered by the Bureau of Land Management. Operations are expected to occur seven days a week, 24 hours a day, for an additional 10 years.

Gerald M. Smith,
Field Manager, Battle Mountain Field Office.

[FR Doc. 00-18341 Filed 7-19-00; 8:45 am]

BILLING CODE 4310-HC-P